DEPARTMENT OF COMMERCE

National Oceanic and Atmospheric Administration

RIN 0648-XF565

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held beginning at 9 a.m. on Tuesday, August 8, 2017, and ending at 1 p.m. on Thursday, August 10, 2017. For agenda details, see SUPPLEMENTARY INFORMATION.

ADDRESSES: The meeting will be held at: Courtyard Marriott, 21 N. Juniper Street, Philadelphia, PA 19107; telephone: (215) 496-3200.

Council address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255. The Council's Web site, www.mafmc.org also has details on the meeting location, proposed agenda, webinar listen-in access, and briefing materials.

SUPPLEMENTARY INFORMATION: The following items are on the agenda; though agenda items may be addressed out of order (changes will be noted on the Council's Web site when possible.)

Tuesday, August 8, 2017

Surfclam/Ocean Quahog

Review scoping comments for excessive shares alternatives to the Excessive Shares Amendment and discuss next steps for amendment development and discuss Surfclam overfishing limit (OFL) and acceptable biological catch (ABC).

Risk Policy Framework—Meeting 1

Initiate framework and review risk policy and ABC framework alternatives.

Demersal Committee Meeting as a Committee of the Whole With the Atlantic States Marine Fisheries Commission's (ASMFC) Summer Flounder, Scup and Black Sea Bass and Bluefish Boards

Bluefish Specifications

Review SSC, Monitoring Committee, Advisory Panel, and staff recommendations for 2018 specifications, recommend any changes if necessary and review the ASMFC Bluefish Fishery Management Plan.

Scup Specifications

Review SSC, Monitoring Committee, Advisory Panel, and staff recommendations for 2018-19 specifications, recommend any changes to 2018 specifications if necessary and consider setting specifications for 2019.

Summer Flounder Amendment

Approve Demersal Committee and ASMFC Board recommendations regarding alternatives.

Wednesday, August 9, 2017

Demersal Committee Meeting as a Committee of the Whole With the Atlantic States Marine Fisheries Commission's Summer Flounder, Scup and Black Sea Bass Boards

Summer Flounder Specifications

Review SSC, Monitoring Committee, Advisory Panel, and staff recommendations regarding previously implemented 2018 specifications and recommend any changes if necessary.

Summer Flounder Recreational Issues

Report from the Board's Summer Flounder Recreational Working Group on work toward short- and long-term improvements to recreational specifications process.

Black Sea Bass Specifications

Review SSC, Monitoring Committee, Advisory Panel, and staff recommendations regarding previously implemented 2018 specifications and recommend any changes if necessary.

Black Sea Bass Recreational Issues and Amendment Consideration

Discuss potential opening of black sea bass wave 1 fishery in 2018, report from Board on addendum for 2018 black sea bass recreational management, report from Board on potential reconsideration of northern state's wave 6 measures and review initiation of black sea bass amendment (December 2015 motion).

Law Enforcement Reports

Reports will be received from the NOAA Office of Law Enforcement and the U.S. Coast Guard.

Ecosystem Approach to Fisheries Management Risk Assessment

Review and approve draft risk elements for risk matrix.

Thursday, August 10, 2017

Business Session

Committee Reports (SSC); Executive Director's Report on chub mackerel amendment update, MAFMC involvement in NEFMC Groundfish Framework 57 (southern windowpane flounder accountability measures) and review timing of the Nantucket/Martha's Vineyard Squid Buffer Framework Action; Science Report; Organization Reports; Liaison Reports; and Continuing and New Business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: July 19, 2017.
Tracey L. Thompson,
Acting Deputy Director, Office of Sustainable Fisheries, National Marine Fisheries Service.

[FR Doc. 2017-15502 Filed 7-21-17; 8:45 am]

BILLING CODE 3510-22-P